DEPARTMENT OF JUSTICE

Antitrust Division

Notice Pursuant to the National Cooperative Research and Production Act of 1993; Joint Task-Force Networked Media

Notice is hereby given that, on February 6, 2014, pursuant to Section 6(a) of the National Cooperative Research and Production Act of 1993, 15 U.S.C. 4301 et seq. (“the Act”), Joint Task-Force Networked Media (JT-NM) has filed written notifications simultaneously with the Attorney General and the Federal Trade Commission disclosing changes in its membership. The notifications were filed for the purpose of invoking the Act's provisions limiting the recovery of antitrust plaintiffs to actual damages under specified circumstances. Specifically, Altos, London, United Kingdom; and Tata Communications, Bandra East, Mumbai, India, have been added as parties to this venture.

No other changes have been made in either the membership or planned activity of the group research project. Membership in this group research project remains open, and JT-NM intends to file additional written notifications disclosing all changes in membership.

On July 10, 2013, JT-NM filed its original notification pursuant to Section 6(a) of the Act. The Department of Justice published a notice in the Federal Register pursuant to Section 6(b) of the Act on August 15, 2013 (78 FR 49768).

The last notification was filed with the Department on November 5, 2013. A notice was published in the Federal Register pursuant to Section 6(b) of the Act on December 9, 2013 (78 FR 73884).

Patricia A. Brink,
Director of Civil Enforcement, Antitrust Division.

[FR Doc. 2014-04671 Filed 3-3-14; 8:45 am]

BILLING CODE P